DEPARTMENT OF HEALTH AND HUMAN SERVICES

Office of the Secretary

Findings of Research Misconduct

AGENCY: Office of the Secretary, HHS.

ACTION: Notice.

SUMMARY: Notice is hereby given that the Office of Research Integrity (ORI) and the Assistant Secretary for Health have taken final action in the following case:

Jennifer Wanchick, MetroHealth System: Based on reports submitted by MetroHealth System's inquiry and investigation committees, the Respondent's own repeated admissions, and additional analysis conducted by ORI during its oversight review, the U.S. Public Health Service (PHS) found that Ms. Jennifer Wanchick, former Research Assistant, MetroHealth System (an affiliated hospital of Case Western Reserve University), engaged in research misconduct in research supported by National Center on Minority Health and Health Disparities (NCMHD), National Institutes of Health (NIH), grant P60 MD002265.

Specifically, by her own admission, Ms. Wanchick engaged in research misconduct by fabricating information in the electronic database purportedly collected from 150 individuals about their willingness to sign up to be an organ donor at the time they obtained a driver's license. Ms. Wanchick also admitted to fabricating the information on several survey instruments. The study at issue was entitled “Community Based Intervention to Enhance Signing of Organ Donor Cards.”

ORI acknowledges Ms. Wanchick's cooperation and assistance in completing its oversight review and resolution of this matter.

Ms. Wanchick has entered into a Voluntary Settlement Agreement in which she has voluntarily agreed, for a period of three (3) years, beginning on June 5, 2009:

(1) To exclude herself from serving in any advisory capacity to PHS, including but not limited to service on any PHS advisory committee, board, and/or peer review committee, or as a consultant; and

(2) that any institution that submits an application for PHS support for a research project on which the Respondent's participation is proposed or that uses the Respondent in any capacity on PHS-supported research, or that submits a report of PHS-funded research in which the Respondent is involved, must concurrently submit a plan for supervision of the Respondent's duties to the funding agency for approval. The supervisory plan must be designed to ensure the research integrity of the Respondent's research contribution. Respondent agrees to ensure that a copy of the supervisory plan also is submitted to ORI by the institution.

Respondent agrees that she will not participate in any PHS-supported research until such a supervisory plan is submitted to ORI.

FOR FURTHER INFORMATION CONTACT: Director, Division of Investigative Oversight, Office of Research Integrity, 1101 Wootton Parkway, Suite 750, Rockville, MD 20852, (240) 453-8800.

John Dahlberg,
Director, Division of Investigative Oversight, Office of Research Integrity.

[FR Doc. E9-14900 Filed 6-23-09; 8:45 am]

BILLING CODE 4150-31-P